DEPARTMENT OF COMMERCE

International Trade Administration

[A-580-809, A-580-870, A-580-876, A-580-897]

Circular Welded Non-Alloy Steel Pipe From the Republic of Korea; Certain Oil Country Tubular Goods From the Republic of Korea; Welded Line Pipe From the Republic of Korea; and Large Diameter Welded Pipe From the Republic of Korea: Notice of Preliminary Results of Antidumping Duty Changed Circumstances Reviews

AGENCY: Enforcement and Compliance, International Trade Administration, Department of Commerce.

SUMMARY: The U.S. Department of Commerce (Commerce) preliminarily determines that Hyundai Steel Pipe Co., Ltd. (HSP) is the successor-in-interest to Hyundai Steel Company (Hyundai Steel) in the context of the antidumping duty (AD) orders on circular welded non-alloy steel pipe (CWP), certain oil country tubular goods (OCTG), welded line pipe (WLP), and large diameter welded pipe (LDWP) from the Republic of Korea (Korea). Therefore, HSP is entitled to Hyundai Steel's AD cash deposit rate with respect to entries of the subject merchandise in the above-referenced proceedings. Interested parties are invited to comment on these preliminary results.

DATES: Applicable October 17, 2024.

FOR FURTHER INFORMATION CONTACT: George McMahon, AD/CVD Operations, Office VI, Enforcement and Compliance, International Trade Administration, U.S. Department of Commerce, 1401 Constitution Avenue NW, Washington, DC 20230, telephone: (202) 482-1167.

SUPPLEMENTARY INFORMATION:

Background

On March 11, 2024, HSP requested that, pursuant to section 751(b)(1) of the Tariff Act of 1930, as amended (the Act), 19 CFR 351.216, and 19 CFR 351.221(c)(3), Commerce conduct a changed circumstances review (CCR) to determine that HSP is the successor-in-interest to Hyundai Steel and, accordingly, to assign HSP the cash deposit rates currently applicable to Hyundai Steel pursuant to the CWP Order; OCTG Order; Welded Line Pipe Order; and LDWP Order.¹ On April 25, 2024, Commerce published the notice of initiation of a CCR to determine if HSP is the successor-in-interest to Hyundai Steel in the above-referenced Orders.²

¹ See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992) (CWP Order); Certain Oil Country Tubular Goods from India, the Republic of Korea, Taiwan, the Republic of Turkey, and the Socialist Republic of Vietnam: Antidumping Duty Orders; Certain Oil Country Tubular Goods from the Socialist Republic of Vietnam: Amended Final Determination of Sales at Less Than Fair Value, 79 FR 53691 (September 10, 2014) (OCTG Order); Welded Line Pipe from the Republic of Korea and the Republic of Turkey: Antidumping Duty Orders, 80 FR 75056 (December 1, 2015) (WLP Order); and Large Diameter Welded Pipe from the Republic of Korea: Amended Final Affirmative Antidumping Determination and Antidumping Duty Order, 84 FR 18767 (May 2, 2019) (LDWP Order) (collectively, the Orders).

² See Circular Welded Non-Alloy Steel Pipe from the Republic of Korea; Oil Country Tubular Goods from the Republic of Korea; Welded Line Pipe from the Republic of Korea; and Large Diameter Welded Pipe from the Republic of Korea: Notice of Initiation of Antidumping Duty Changed Circumstances Reviews, 89 FR 31726 (April 25, 2024).

Scope of the Orders

The merchandise covered by these orders is CWP, OCTG, WLP, and LDWP from Korea. For a complete description of the scope of each of these orders, see the Preliminary Decision Memorandum.³

³ See Memorandum, “Decision Memorandum for the Preliminary Results of Antidumping Duty Changed Circumstances Review of Circular Welded Non-Alloy Steel Pipe from the Republic of Korea; Certain Oil Country Tubular Goods from the Republic of Korea; Welded Line Pipe from the Republic of Korea; and Large Diameter Welded Pipe from the Republic of Korea,” dated concurrently with, and hereby adopted by, this notice (Preliminary Decision Memorandum).

Legal Framework

In determining whether one company is the successor-in-interest to another company as part of an AD proceeding, Commerce examines several factors including, but not limited to: (1) management and ownership; (2) production facilities; (3) supplier relationships; and (4) customer base.⁴ Although no single factor, or combination of factors, will necessarily provide a dispositive indication of successorship, generally, Commerce will consider one company to be the successor-in-interest to another company if its operations are not materially dissimilar to those of the other company.⁵ Thus, if the totality of the evidence demonstrates that, with respect to the production and sale of the subject merchandise, the new company operates as the same business entity as the prior company, Commerce will find the new company to be the successor-in-interest to the prior company and assign the new company the cash deposit rate of its predecessor.⁶

⁴ See, e.g., Ball Bearings and Parts Thereof from France: Final Results of Changed-Circumstances Review, 75 FR 34688 (June 18, 2010), and accompanying Issues and Decision Memorandum (IDM) at Comment 1.

⁵ See, e.g., Fresh and Chilled Atlantic Salmon from Norway; Final Results of Changed Circumstances Antidumping Duty Administrative Review, 64 FR 9979, 9979-80 (March 1, 1999).

⁶ Id.; see also Brass Sheet and Strip from Canada; Final Results of Antidumping Duty Administrative Review, 57 FR 20460 (May 13, 1992), and accompanying IDM at Comment 1.

Preliminary Results of the CCR

In accordance with 19 CFR 351.216, we preliminarily determine that HSP is the successor-in-interest to Hyundai Steel with respect to the subject merchandise and the Orders because record evidence, as submitted by HSP, indicates that HSP operates as essentially the same business entity as Hyundai Steel. HSP's management and ownership, production facilities, supplier relationships, and customer base are the same, or substantially the same, as those of Hyundai Steel. Based on the foregoing, which is explained in greater detail in the Preliminary Decision Memorandum, we preliminarily determine that HSP is the successor-in-interest to Hyundai Steel and, as such, that HSP is entitled to Hyundai Steel's AD cash deposit rates with respect to entries of subject merchandise.

For a complete discussion of the information that HSP provided, and the complete successor-in-interest analysis, see the Preliminary Decision Memorandum. A list of topics discussed in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Public Comment

In accordance with 19 CFR 351.309(c)(1)(ii), interested parties may submit case briefs no later than 14 days after the date of publication of this notice. Rebuttal briefs, limited to issues raised in case briefs, may be filed no later than seven days after the case briefs, in accordance with 19 CFR 351.309(d).

Interested parties who submit case or rebuttal briefs must submit: (1) a table of contents listing each issue discussed in the brief; and (2) a table of authorities.⁷ As provided under 19 CFR 351.309(c)(2) and (d)(2), in prior proceedings we have encouraged interested parties to provide an executive summary of their brief that should be limited to five pages total, including footnotes. In this review, we instead request that interested parties provide at the beginning of their briefs a public, executive summary for each issue raised in their briefs.⁸ Further, we request that interested parties limit their executive summary of each issue to no more than 450 words, not including citations. We intend to use the executive summaries as the basis of the comment summaries included in the issues and decision memorandum that will accompany the final results in this review. We request that interested parties include footnotes for relevant citations in the executive summary of each issue.

⁷ See 19 CFR 351.309(c)(2) and (d)(2).

⁸ We use the term “issue” here to describe an argument that Commerce would normally address in a comment of the Issues and Decision Memorandum.

Pursuant to 19 CFR 351.310(c), interested parties who wish to request a hearing, limited to issues raised in the case and rebuttal briefs, must submit a written request to the Assistant Secretary for Enforcement and Compliance, filed electronically via ACCESS, within 14 days of publication of this notice. Requests should contain the following information: (1) the party's name, address, and telephone number; (2) the number of participants and whether any participant is a foreign national; and (3) a list of issues to be discussed. If a request for a hearing is made, Commerce will inform parties of the date and time for the hearing.

All submissions are to be filed electronically using ACCESS. An electronically filed document must be received successfully in its entirety by ACCESS by 5:00 p.m. Eastern Time on the day it is due.⁹ Note that Commerce has temporarily modified certain of its requirements for serving documents containing business proprietary information, until further notice.¹⁰

⁹ See 19 CFR 351.303(b).

¹⁰ See 19 CFR 351.309(d); see also Administrative Protective Order, Service, and Other Procedures in Antidumping and Countervailing Duty Proceedings, 88 FR 67069, 67077 (September 29, 2023).

Final Results of Changed Circumstances Reviews

Consistent with 19 CFR 351.216(e), we intend to issue the final results of this CCR no later than 270 days after the date on which this review was initiated, or within 45 days of publication of these preliminary results, if all parties agree to the preliminary findings.

Notification to Interested Parties

We are issuing these preliminary results notice in accordance with sections 751(b)(1) and 777(i) of the Act, and 19 CFR 351.216(b) and 351.221(b)(1).

Dated: October 10, 2024.
Scot Fullerton,
Acting Assistant Secretary for Enforcement and Compliance.

Appendix—List of Topics Discussed in Preliminary Decision Memorandum

I. Summary

II. Background

III. Scopes of the Orders

IV. Current Cash Deposit Rates

V. Successor-in-Interest Determination

VI. Recommendation

[FR Doc. 2024-23983 Filed 10-16-24; 8:45 am]

BILLING CODE 3510-DS-P